DEPARTMENT OF LABOR

Employment and Training Administration

[TA-W-39,720]

Waukesha Cherry-Burrell Louisville, Kentucky; Notice of Termination of Investigation

Pursuant to Section 221 of the Trade Act of 1974, an investigation was initiated on July 30, 2001, in response to a petition filed by a company official on behalf of workers at Waukesha Cherry-Burrell, Louisville, Kentucky.

The official submitting the petition has decided to withdraw it. Consequently, further investigation in this case would serve no purpose, and the investigation has been terminated.

Signed in Washington, D.C. this 8th day of August, 2001.
Linda G. Poole,
Certifying Officer, Division of Trade Adjustment Assistance.

[FR Doc. 01-21321 Filed 8-22-01; 8:45 am]

BILLING CODE 4510-30-M